DEPARTMENT OF AGRICULTURE

Grain Inspection, Packers and Stockyards Administration

7 CFR Part 868

United States Standards for Rough Rice, Brown Rice for Processing, and Milled Rice

AGENCY: Grain Inspection, Packers and Stockyards Administration, USDA.

ACTION: Request for information.

SUMMARY: The United States Department of Agriculture's (USDA) Grain Inspection, Packers, and Stockyards Administration (GIPSA) is seeking comment from the public regarding the United States (U.S.) Standards for Rough Rice, Brown Rice for Processing, and Milled Rice under the Agriculture Marketing Act of 1946 (AMA). To ensure that standards and official grading practices remain relevant, GIPSA invites interested parties to comment on whether the current rice standards and grading practices need to be changed.

DATES: We will consider comments we receive by March 21, 2016.

ADDRESSES: You may submit written or electronic comments on this proposed rule to:

• Mail: Irene Omade, GIPSA, USDA, STOP 3642, 1400 Independence Avenue SW., Room 2530-B, Washington, DC 20250-3604.

• Fax: (202) 690-2173

• Internet: Go to http://www.regulations.gov and follow the on-line instructions for submitting comments.

All comments will become a matter of public record and should be identified as “U.S. Standards for Rough Rice, Brown Rice for Processing, and Milled Rice request for information comments,” making reference to the date and page number of this issue of the Federal Register. All comments received become the property of the Federal government, are a part of the public record, and will generally be posted to www.regulations.gov without change. If you send an email comment directly to GIPSA without going through www.regulations.gov, or you submit a comment to GIPSA via fax, the originating email address or telephone number will be automatically captured and included as part of the comment that is placed in the public docket and made available on the Internet. Also, all personal identifying information (for example, name, address, etc.) voluntarily submitted by the commenter may be publicly accessible. Do not submit confidential business information or otherwise sensitive or protected information.

Electronic submissions should avoid the use of special characters, avoid any form of encryption, and be free of any defects or viruses, since these may prevent GIPSA from being able to read and understand, and thus consider your comment.

GIPSA will post a transcript or report summarizing each substantive oral comment that we receive. This would include comments made at any public meetings hosted by GIPSA during the comment period, unless GIPSA publically announces otherwise.

All comments will also be available for public inspection at the above address during regular business hours (7 CFR 1.27(b)). Please call the GIPSA Management and Budget Services support staff (202) 720-8479 for an appointment to view the comments.

FOR FURTHER INFORMATION CONTACT: Beverly A. Whalen at GIPSA, USDA, 10383 N. Ambassador Drive, Kansas City, MO, 64153; Telephone: (816) 659-8410; Fax Number: (816) 872-1258; email: Beverly.A.Whalen@usda.gov.

SUPPLEMENTARY INFORMATION: Under the authority of the AMA (7 U.S.C. 1621-1627), as amended, GIPSA establishes and maintains a variety of quality and grade standards for agricultural commodities that serve as a fundamental starting point to define commodity quality in the domestic and global marketplace. Standards developed by GIPSA under the AMA include rice, whole dry peas, split peas, feed peas, lentils, and beans. The AMA standards are voluntary and widely used in private contracts, government procurement, marketing communication, and, for some commodities, consumer information. The U. S. Standards for Rough Rice, Brown Rice for Processing, and Milled Rice standards were last revised in 2002 and appear in the AMA regulations at 7 CFR 868.202 through 868.316. The standards facilitate the marketing of rice in foreign and domestic trade, and provide a uniform measure of quality by providing a common language to describe commodity attributes for U.S. producers, exporters and their customers. Official procedures for inspections are provided in GIPSA's Rice Inspection Handbook for determining the various grading factors.

GIPSA inspects shipments of rice in accordance with AMA standards to establish the grade of the rice and issues inspection certificates for each shipment. GIPSA-issued certificates describing the quality and condition of graded rice are accepted as prima facie evidence in all Federal courts. U. S. rice standards and the affiliated grading and testing services offered by GIPSA verify that a seller's rice meets specified requirements, and ensure that customers receive the quality of rice they purchased. In addition to Federal usage, the rice standards are applied by one State and one private cooperator.

In order for U. S. standards and grading procedures for Rough Rice, Brown Rice for Processing, and Milled Rice to remain relevant, GIPSA is issuing this request for information to invite interested parties to submit comments, ideas, and suggestions on all aspects of the U. S. Standards for Rice and inspection procedures.

Authority: 7 U.S.C. 1621-1627

Larry Mitchell,
Administrator, Grain Inspection, Packers and Stockyards Administration.

[FR Doc. 2015-32181 Filed 12-21-15; 8:45 am]

BILLING CODE 3410-KD-P